DEPARTMENT OF DEFENSE

Office of the Secretary

Reserve Forces Policy Board (RFPB); Notice of Federal Advisory Committee Meeting

AGENCY: Office of the Secretary of Defense, Reserve Forces Policy Board, DoD.

ACTION: Notice of Federal Advisory Committee meeting.

SUMMARY: The Department of Defense is publishing this notice to announce that the following Federal Advisory Committee meeting of the Reserve Forces Policy Board will take place. The purpose of the meeting is to obtain, review and evaluate information related to strategies, policies, and practices designed to improve and enhance the capabilities, efficiency, and effectiveness of the Reserve Components.

DATES: Thursday, December 12, 2013, from 9:10 a.m. to 4:40 p.m.

ADDRESSES: The address is the Pentagon, Room 3E863, and Arlington, VA. An escort may be required as discussed in the meeting accessibility section.

FOR FURTHER INFORMATION CONTACT: CAPT Steven Knight, Designated Federal Officer, (703) 681-0608 (Voice), (703) 681-0002 (Facsimile), Email—steven.p.knight.mil@mail.mil. Mailing address is Reserve Forces Policy Board, 5113 Leesburg Pike, Suite 601, Falls Church, VA 22041. Web site: http://ra.defense.gov/rfpb/. The most up-to-date changes to the meeting can be found on the Reserve Forces Policy Board Web site.

SUPPLEMENTARY INFORMATION: This meeting is being held under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The Reserve Forces Policy Board will hold a meeting from 9:10 a.m. until 4:40 p.m.

The portion of the meeting from 2:40 p.m. to 4:40 p.m. will be closed to the public. The open portion of the meeting will consist of remarks from Admiral Gary Roughead, USN (Ret), General Ronald Fogelman USAF (Ret), and the Honorable Michele Flournoy. They will share their views as the Department balances force structure and missions with increased fiscal constraints that may have a profound impact on the Reserve Components. A General Officer from the United Kingdom has been invited to provide remarks on the reforms being made to the British Army. The three Reserve Forces Policy Board subcommittees will also provide updates on their past recommendations to the Secretary of Defense. The Subcommittee on the Operational Reserve plans to discuss medical readiness. The Subcommittee on the Homeland plans to discuss National Security Special Event funding issues and give the Reserve Forces Policy Board an update regarding the status of U.S. Northern Command's identification of Defense Support of Civilian Authorities requirements. The Subcommittee on Personnel plans to discuss Warrior Care Policy findings. The closed portion of the meeting will consist of remarks from the Secretary of the Air Force whom will likely address future strategies for use of the Reserve Component, issues impacting reserve organizations, the right balance of Active and Reserve Component forces, and force structure management. The Cyber Policy Task Group will update the Board on its current findings concerning the logical mission fit for Reserve Component members with regards to cyber security.

Meeting Accessibility: Pursuant to 5 U.S.C. 552b, as amended and 41 CFR 102-3.140 through 102-3.165, and subject to the availability of space, the meeting is open to the public from 9:10 a.m. to 2:30 p.m. Seating is based on a first-come, first-served basis. All members of the public who wish to attend the public meeting must contact Captain Steven Knight, the Designated Federal Officer, not later than 12:00 p.m. on Friday, December 6, 2013, as listed in the FOR FURTHER INFORMATION CONTACT section to make arrangements for a Pentagon escort, if necessary. Public attendees requiring escort should arrive at the Pentagon Metro Entrance with sufficient time to complete security screening no later than 8:45 a.m. on December 12, 2013. To complete the security screening, please be prepared to present two forms of identification. One must be a picture identification card. In accordance with section 10(d) of the FACA, 5 U.S.C. 552b, and 41 CFR 102-3.155, the Department of Defense has determined that the portion of this meeting scheduled to occur from 2:40 p.m. until 4:40 p.m. will be closed to the public. Specifically, the Acting Under Secretary of Defense (Personnel and Readiness), in coordination with the DoD FACA Attorney, has determined in writing that this portion of the meeting will be closed to the public, because it is likely to disclose matters covered by 5 U.S.C. 552b(c)(1).

Written Statements: Pursuant to 41 CFR 102-3.105(j) and 102-3.140 and section 10(a)(3) of the FACA, interested persons may submit written statements to the Reserve Forces Policy Board at any time. Written statements should be submitted to the Reserve Forces Policy Board's Designated Federal Officer at the address or facsimile number listed in the FOR FURTHER INFORMATION CONTACT section. If statements pertain to a specific topic being discussed at the planned meeting, then these statements must be submitted no later than five (5) business days prior to the meeting in question. Written statements received after this date may not be provided to or considered by the Reserve Forces Policy Board until its next meeting. The Designated Federal Officer will review all timely submitted written statements and provide copies to all the committee members before the meeting that is the subject of this notice. Please note that since the Reserve Forces Policy Board operates under the provisions of the FACA, all submitted comments and public presentations will be treated as public documents and will be made available for public inspection, including, but not limited to, being posted on the Board's Web site.

Dated: November 20, 2013.
Aaron Siegel,
Alternate OSD Federal Register Liaison Officer, Department of Defense.

[FR Doc. 2013-28237 Filed 11-25-13; 8:45 am]

BILLING CODE 5001-06-P